DEPARTMENT OF HOMELAND SECURITY

Federal Emergency Management Agency

44 CFR Part 67

[Docket No. FEMA-B-7748]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before March 5, 2008.

ADDRESSES: The corresponding preliminary Flood Insurance Rate Map (FIRM) for the proposed BFEs for each community are available for inspection at the community's map repository. The respective addresses are listed in the table below.

You may submit comments, identified by Docket No. FEMA-B-7748, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground: Effective | * Elevation in feet (NGVD) + Elevation in feet (NAVD) # Depth in feet above ground: Modified | Communities affected
Shoshone County, Idaho, and Incorporated Areas
Pine Creek without levee | Approximately 600 feet upstream of Interstate 90 off-ramp | None | +2208 | City of Pinehurst.
| Approximately 750 feet downstream of Ohio Avenue | None | +2240
Pine Creek without levee | Just upstream of Interstate 90 at Old ID State Route 10 | None | +2198 | Unincorporated Areas of Shoshone County.
| Approximately 3,700 feet upstream of Ohio Avenue | None | +2277
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Pinehurst
Maps are available for inspection at 106 North Division Street, Pinehurst, ID 83850.
Unincorporated Areas of Shoshone County
Maps are available for inspection at 700 Bank Street, Suite 35, Wallace, ID 83873.
Daviess County, Kentucky, and Incorporated Areas
Gilles Ditch | Just upstream Audubon Parkway | +398 | +399 | City of Owensboro, Unincorporated Areas of Daviess County.
| Approximately 2,600 feet upstream U.S. 60 | None | +415
Goetz Ditch | Approximately 100 feet upstream South Griffith Avenue | None | +397 | City of Owensboro, Unincorporated Areas of Daviess County.
| Approximately 150 feet downstream South Griffith Avenue | None | +397
Horse Fork | Approximate 1,500 feet upstream Wendell Ford Expressway | +395 | +394 | City of Owensboro, Unincorporated Areas of Daviess County.
| Approximately 120 feet downstream of KY-54 | +417 | +418
Ohio River | At the western county boundary (Approximately 11,000 feet downstream Crane Pond Slough) | +384 | +383 | City of Owensboro, Unincorporated Areas of Daviess County.
| At confluence with Blackford Creek | +394 | +393
Persimmon Ditch | Just upstream Ewing Road | +399 | +389 | City of Owensboro, Unincorporated Areas of Daviess County.
| Just downstream U.S. 60 | +403 | +401
Scherm Ditch | Just upstream Lewis Lane | +398 | +399 | City of Owensboro, Unincorporated Areas of Daviess County.
| Approximately 1,100 feet upstream South Griffith Avenue | +399 | +400
Yellow Creek | Just upstream KY-144 | +397 | +392 | City of Owensboro, Unincorporated Areas of Daviess County.
| Approximately 520 feet upstream Wendell Ford Expressway | None | +408
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Owensboro
Maps are available for inspection at PO Box 732, 200 East 3rd Street, Owensboro, KY 42302-0732.
Unincorporated Areas of Daviess County
Maps are available for inspection at PO Box 732, 200 East 3rd Street, Owensboro, KY 42302-0732.
Lee County, Kentucky, and Incorporated Areas
Kentucky River—North Fork | Approximately 150 feet downstream of confluence with Mirey Creek | None | +668 | Unincorpo- rated Areas of Lee County.
Kentucky River | Approximately 1,550 feet downstream of confluence with Blaines Branch | None | +671 |
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Lee County
Maps are available for inspection at Lee County Courthouse, 256 Main Street, Beattyville, KY 41311.
Midland County, Michigan, and Incorporated Areas
Chippewa River | Approximately 8,745 feet upstream of the confluence with Tittabawassee River | None | +616 | Township of Midland, Township of Homer.
| Approximately 18,635 feet upstream of the confluence with Tittabawassee River | None | +616
Sturgeon Creek | Approximately 4,200 feet upstream of Airport Road | None | +615 | City of Midland, Township of Larkin.
| Approximately 4,620 feet upstream of Airport Road | None | +615
Tittabawassee River | Approximately 5,000 feet upstream of Consumers Power Railroad | None | +611 | Township of Midland, City of Midland, Township of Homer.
| Approximately 14,080 feet upstream of the confluence of Sturgeon Creek | None | +616
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Midland
Maps are available for inspection at 333 West Ellsworth Street, Midland, MI 48640.
Township of Homer
Maps are available for inspection at Homer Township Hall, 522 North Homer Road, Midland, MI 48640.
Township of Larkin
Maps are available for inspection at Larkin Township Hall, 3027 North Jefferson Road, Midland, MI 48642.
Township of Midland
Maps are available for inspection at 1030 S. Poseyville Road, Midland, MI 48640.
Ulster County, New York, and Incorporated Areas
Rondout Creek | Approximately 500 feet downstream of the Conrail Bridge Structure | +8 | +9 | City of Kingston, Town of Esopus, Town of Rosendale, Town of Ulster.
| Approximately 200 feet upstream of Lawrenceville Road (State Route 213) | +94 | +91
Saw Kill | At confluence with Esopus Creek | None | +151 | Town of Kingston, Town of Ulster.
| Approximately 0.7 miles upstream of Powder Mill Road | +260 | +255
Twaalfskill Brook | At confluence with Rondout Creek | None | +10 | City of Kingston.
| Approximately 55 feet upstream of Brook Street | None | +54 |
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Kingston
Maps are available for inspection at City of Kingston-City Hall, 420 Broadway, Kingston, NY 12401.
Town of Esopus
Maps are available for inspection at Town of Esopus-Town Hall, 172 Broadway, Port Ewen, NY 12466.
Town of Kingston
Maps are available for inspection at Town of Kingston-Town Hall, 906 Sawkill Road, Kingston, NY 12401.
Town of Rosendale
Maps are available for inspection at Town of Rosendale-Town Hall, 424 Main Street, Rosendale, NY 12742.
Town of Ulster
Maps are available for inspection at Town of Ulster-Town Hall, 1 Town Hall Drive, Lake Katrine, NY 12449.
Caldwell County, North Carolina, and Incorporated Areas
Beaver Creek | Approximately 400 feet downstream of the Caldwell/Wilkes County boundary | None | +1184 | Unincorporated Areas of Caldwell County.
| Approximately 1.6 miles upstream of Wilkesboro Boulevard | None | +1252
Blue Creek | At the confluence with Kings Creek 1 and Little Kings Creek | None | +1102 | Unincorporated Areas of Caldwell County.
| Approximately 0.5 mile upstream of Bluegrass Place (State Road 1578) | None | +1276
Buffalo Creek | Approximately 1,500 feet upstream of the confluence with Yadkin River | +1159 | +1160 | Unincorporated Areas of Caldwell County.
| At the Caldwell/Watauga County boundary | None | +2080
Dennis Creek | At the confluence with Yadkin River | None | +1883 | Unincorporated Areas of Caldwell County.
| Approximately 120 feet downstream of Richland Road (State Road 1372) | None | +2013
Elk Branch | At the confluence with Jones Creek | None | +1385 | Unincorporated Areas of Caldwell County.
| Approximately 1,290 feet upstream of Old Sampson Road (State Road 1574) | None | +1450
Green Rock Branch | At the confluence with Buffalo Creek | None | +1216 | Unincorporated Areas of Caldwell County.
| Approximately 1.5 miles upstream of Buffalo Cove Road (State Road 1504) | None | +1436
Jackson Camp Creek | At the confluence with Yadkin River | None | +1757 | Unincorporated Areas of Caldwell County.
| Approximately 1.0 mile upstream of Richland Road (State Road 1372) | None | +1867
Jesse Fork | At the confluence with Buffalo Creek | None | +1349 | Unincorporated Areas of Caldwell County.
| Approximately 0.8 mile upstream of Stone Mountain Road (State Road 1503) | None | +1640
Jesse Fork Tributary 1 | At the confluence with Jesse Fork | None | +1453 | Unincorporated Areas of Caldwell County.
| Approximately 340 feet upstream of Wallace Coffey Place | None | +1502
Jones Creek | At the confluence with Buffalo Creek | None | +1347 | Unincorporated Areas of Caldwell County.
| Approximately 1.3 miles upstream of C C Camp Road (State Road 1574) | None | +2072
Kings Creek 1 | At the confluence with Yadkin River | None | +1097 | Unincorporated Areas of Caldwell County.
| At the confluence of Blue Creek and Little King Creek | None | +1102
Kings Creek 2 | At the confluence with Blue Creek | None | +1181 | Unincorporated Areas of Caldwell County.
| Approximately 1.9 miles upstream of the confluence of Kings Creek 2 Tributary 1 | None | +1252
Kings Creek 2 Tributary 1 | At the confluence with Kings Creek 2 | None | +1201 | Unincorporated Areas of Caldwell County.
| Approximately 1.2 miles upstream of Taylor Farm Road (State Road 1702) | None | +1376
Laytown Creek | At the confluence with Yadkin River | None | +1110 | Unincorporated Areas of Caldwell County.
| Approximately 1.8 miles upstream of Laytown Road (State Road 1507) | None | +1633
Little Kings Creek | At the confluence with Blue Creek and Kings Creek 1 | None | +1102 | Unincorporated Areas of Caldwell County.
| Approximately 1,630 feet upstream of Zacks Fork Road (State Road 1511) | None | +1334
Mill Creek (into Yadkin River) | At the confluence with Yadkin River | None | +1154 | Unincorporated Areas of Caldwell County.
| Approximately 1.2 miles upstream of NC 268 Highway | None | +1216
Old Field Branch | At the confluence with Buffalo Creek | None | +1379 | Unincorporated Areas of Caldwell County.
| Approximately 1.7 miles upstream of Cottrell Place | None | +1548
Ooten Creek | At the confluence with Yadkin River | None | +1940 | Unincorporated Areas of Caldwell County.
| Approximately 0.6 mile upstream of the confluence with Yadkin River | None | +2122
Preston Creek | At the confluence with Yadkin River | None | +1332 | Unincorporated Areas of Caldwell County.
| Approximately 650 feet upstream of Kirby Mountain Road (State Road 1370) | None | +1548
Rockhouse Creek | At the confluence with Buffalo Creek | None | +1670 | Unincorporated Areas of Caldwell County.
| Approximately 1.3 miles upstream of the confluence with Buffalo Creek | None | +1900
Warrior Creek | Approximately 300 feet upstream of the confluence with Yadkin River | +1213 | +1214 | Unincorporated Areas of Caldwell County.
| Approximately 210 feet upstream of Warrior Road (State Road 1346) | None | +1251
Yadkin River | At the Caldwell/Wilkes County boundary | None | +1090 | Unincorporated Areas of Caldwell County.
| Approximately 2.2 miles upstream of the confluence of Ooten Creek | None | +2315
Tributary 25 | At the confluence with Yadkin River | None | +1128 | Unincorporated Areas of Caldwell County.
| Approximately 1,730 feet downstream of Laytown Road (State Road 1507) | None | +1284
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Caldwell County
Maps are available for inspection at Caldwell County Courthouse, 1051 Harper Avenue, Lenoir, NC.
Clatsop County, Oregon, and Incorporated Areas
Beerman Creek | Approximately at US 101 | None | +21 | Unincorporated Areas of Clatsop County.
| Approximately 0.95 miles upstream of Beerman Creek Lane | None | +119
Neawanna Creek | Approximately 50 feet downstream of 12th Avenue | +16 | +14 | City of Seaside, Unincorporated Areas of Clatsop County.
| Approximately 0.7 miles upstream of Avenue | None | +19
Necanicum River | Approximately 450 feet downstream of 12th Avenue | +15 | +14 | City of Seaside, Unincorporated Areas of Clatsop County.
| Approximately at the Howard Johnson Bridge | +38 | +39
Necanicum River Overflow | Approximately 0.24 miles upstream of confluence with Necanicum River | None | +32 | City of Seaside, Unincorporated Areas of Clatsop County.
| Approximately 0.7 miles upstream of confluence with Necanicum River | None | +37
Upper Neawanna Creek | Approximately 260 feet downstream of Wahanna Road | None | +16 | City of Seaside, Unincorporated Areas of Clatsop County.
| Approximately 840 feet upstream of Wahanna Road | None | +31
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Seaside
Maps are available for inspection at 989 Broadway, Seaside, OR.
Unincorporated Areas of Clatsop County
Maps are available for inspection at 800 Exchange Street, Ste. 310, Astoria, OR.
Lawrence County, Tennessee, and Incorporated Areas
Buffalo River | Appoximately 1,028 feet upstream of confluence of Saw Creek | None | +792 | Unincorporated Areas of Lawrence County.
| Approximately 2,040 feet upstream of State Highway 240 | None | +812
Shoal Creek | At New Shoal Creek Dam | None | +759 | Unincorporated Areas of Lawrence County.
| Approximately 8,540 feet downstream of Old Waynesboro Highway | None | +787
* National Geodetic Vertical Datum.
# Depth in feet above ground.
= North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Lawrence County
Maps are available for inspection at 240 West Gaines Street, Lawrenceburg, TN 38464.
Canutillo—Flow Path 42 | Confluence with the Rio Grande | None | +3772 | Unincorporated Areas of El Paso County, City of El Paso.
| Interstate 10 | +3901 | +3895
Canutillo—Flow Path 42A | Confluence with the Flow Path 42 | None | +3873 | City of El Paso, Unincorporated Areas of El Paso County.
| Interstate 10 | None | +3916
Government Hills Channel—Flow Path 24 | Approximately 400 feet downstream from La Luz Avenue | +3741 | +3737 | City of El Paso.
| Approximately 770 feet upstream from intersection with Leeds Avenue | +3794 | +3799
McKelligon County Arroyo—Flow Path 17 | Confluence with McKelligon Canyon Arroyo | +4630 | +4638 | Unincorporated Areas of El Paso County.
Tributary 6 | Approximately 2400 feet upstream of confluence with McKelligon Canyon Arroyo | +4775 | +4781
McKelligon County Arroyo—Flow Path 17 | At the intersection with Davis Seamon Road | +4262 | +4263 | City of El Paso, Unincorporated Areas of El Paso County.
| Approximately 2,000 feet upstream of confluence with McKelligon Canyon Arroyo Tributary 6 | +4772 | +4765
NE Pond—Pond 2 | Northern most pond, intersected by Tiger Eye Drive | None | +3923 | City of El Paso.
NE Pond—Pond 3 | Square pond along west central side of ponding area, across Dyer St. from Ameen Drive | None | +3909 | City of El Paso.
NE Pond—Pond 4 | Small pond North of Pond 4 | None | +3913 | City of El Paso.
NE Pond—Pond 5 | Small pond in Southwest corner of ponding area | None | +3909 | City of El Paso.
NE Pond—Pond 6 | Small pond in Southeast corner of ponding area | None | +3909 | City of El Paso.
Range Dam Flow Path 14—El Paso Drainage Channel #2 | Intersection with Hollyhock Drive | +3943 | +3945 | City of El Paso.
| Blythe Street | +3976 | +3975
Range Dam Flow Path 16—Main Channel | Approximately 600 feet downstream from the Railroad | None | +3869 | City of El Paso.
| Donald Drive | None | +3960
Range Dam—Outlet Channel | Confluence with Flow Path No. 16 | None | +3887 | City of El Paso.
| Approximately 1,400 feet upstream of Dyer Street at Range Dam | None | +3899
San Felipe Arroyo | Approximately 600 feet downstream from Alameda Avenue | None | +3608 | Unincorporated Areas of El Paso County.
| Approximately 5,000 feet upstream of Citizen Transfer Station Road | None | +3693
Stream 2—Horizon Arroyo | Approximately 3,500 feet downstream from I-10 Frontage Road | +3666 | +3657 | Unincorporated Areas of El Paso County.
| Approximately 65 feet downstream from I-10 Frontage Road | +3752 | +3747
Vinton 1 & 2—Flow Path 45 | Approximately 160 feet upstream of the confluence with the Rio Grande | None | +3775 | Town of Vinton, City of El Paso, Unincorporated Areas of El Paso County.
| Approximately 7,900 feet upstream of the confluence with Flow Path 45B | +4500 | +4514
Vinton 1 & 2—Flow Path 45 C | Confluence with Flow Path No. 45 | +4017 | +4048 | City of El Paso, Unincorporated Areas of El Paso County.
| Approximately 2,300 feet upstream of confluence with Flow Path 45 Tributary | None | +4656
Vinton 1 & 2—Flow Path 45 C | Confluence with Flow Path No. 45 C | None | +4531 | Unincorporated Areas of El Paso County.
Tributary 1 | Approximately 1,500 feet upstream of confluence with Flow Path 45 C | None | +4598
Vinton 1 & 2—Flow Path 45A | Confluence with Flow Path 45 | None | +3815 | Town of Vinton, City of El Paso, Unincorporated Areas of El Paso County.
| Approximately 150 feet upstream of Remington Drive | None | +4058
Vinton 1 & 2—Flow Path 45B | Confluence with Flow Path No. 45 | +4250 | +4242 | Unincorporated Areas of El Paso County, City of El Paso.
| Approximately 8,900 feet upstream of confluence with Flow Path No. 45 | None | +4598
Vinton 1 & 2—Flow Path 45D | Confluence with Flow Path No. 45 | None | +4266 | City of El Paso, Unincorporated Areas of El Paso County.
| Approximately 6,300 feet upstream of confluence with Flow Path No. 45B | None | +4513
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of El Paso
Maps are available for inspection at City Hall/Engineering Department, #2 Civic Center Plaza, El Paso, TX 79901.
Town of Vinton
Maps are available for inspection at 436 Vinton Road, Anthony, TX 79821.
Unincorporated Areas of El Paso County
Maps are available for inspection at 500 East San Antonio St., Room 407, El Paso, TX 79901.
King County, Washington, and Incorporated Areas
Cedar River | Approximately at 149th Avenue SE | +100 | +101 | Unincorporated Areas of King County, City of Renton.
| Approximately 350 feet upstream of Landsburg Road SE | None | +528
Green River | Approximately at Fort Dent Park Road | +25 | +24 | Unincorporated Areas of King County, City of Auburn, City of Kent, City of Renton, City of Seatac, City of Tukwila.
| Approximately 0.48 miles downstream of SR 18 | +75 | +74
Patterson Creek | Approximately 600 feet upstream of SR 202, near confluence with Snoqualmie R | None | +86 | Unincorporated Areas of King County.
| Approximately .31 miles upstream of SR 202 past Patternson Creek Overflow | None | +160
Snoqualmie River | Approximately at the King County/Snohomish County boundary | +47 | +50 | Unincorporated Areas of King County, City of Carnation, City of Snoqualmie, Town of Duvall.
| Approximately 0.5 miles downstream from Snoqualmie Dam | +128 | +125
Springbrook Creek | Approximately 0.44 miles downstream of SW 7th Street Bridge | None | +24 | Unincorporated Areas of King County, City of Renton, City of Tukwila.
| Approximately 250 feet downstream of the City of Renton/City of Kent boundary | +22 | +30
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Auburn
Maps are available for inspection at 25 W. Main Street, Auburn, WA 98001.
City of Carnation
Maps are available for inspection at 4621 Tolt Avenue, Carnation, WA 98014.
City of Kent
Maps are available for inspection at 220 Fourth Avenue South, Kent, WA 98032.
City of Renton
Maps are available for inspection at 1055 S Grady Way, Renton, WA 98055.
City of Seatac
Maps are available for inspection at 4800 S 188th St, Seatac, WA 98188.
City of Snoqualmie
Maps are available for inspection at 8020 Railroad Ave SE, Snoqualmie, WA 98065.
City of Tukwila
Maps are available for inspection at 8020 Railroad Ave SE, Tukwila, WA 98118.
Town of Duvall
Maps are available for inspection at 15535 Main St NE, Duvall, WA 98019.
Unincorporated Areas of King County
Maps are available for inspection at 201 S. Jackson Street, Ste 600, Seattle, WA 98104.
Pierce County, Washington, and Incorporated Areas
Artondale Creek (main stem) | Approximately 100 feet upstream of Wollochet Drive Culvert | None | +13 | Unincorporated Areas of Pierce County.
| Approximately 200 feet downstream of confluence with East and West Branch | None | +39
Artondale Creek—East Branch | Approximately 320 feet upstream of confluence with main stem Artondale Creek | None | +40 | Unincorporated Areas of Pierce County.
| Approximately 80 feet downstream of Hunt Street NW | None | +152
Artondale Creek—West Branch | Approximately 460 feet upstream of confluence with main stem Artondale Creek | None | +39 | Unincorporated Areas of Pierce County.
| Approximately 0.46 miles upstream of confluence with main stem Artondale Creek | None | +48
Canyon Creek | Approximately 250 feet downstream of 128th Street E | None | +31 | Unincorporated Areas of Pierce County.
| Approximately 130 feet upstream of 72nd Street | None | +280
Carbon River | Approximately 860 feet upstream of confluence with Puyallup R | +130 | +124 | Unincorporated Areas of Pierce County, Town of Orting.
| Approximately 660 feet upstream of Alward Road | None | +456
Clarks Creek | Approximately at River Road | None | +29 | Unincorporated Areas of Pierce County, City of Puyallup.
| Approximately 600 feet upstream of 12th Avenue SW | +31 | +34
Clarks Creek—Meeker Ditch | Approximately 680 feet downstream of 14th Street SW | None | +31 | Unincorporated Areas of Pierce County, City of Puyallup.
| Approximately 580 feet upstream of 7th Street SW | None | +38
Clover Creek | Approximately 240 feet upstream of confluence with Steilacoom Lake | +215 | +214 | Unincorporated Areas of Pierce County, City of Lakewood.
| Approximately 0.86 miles upstream of Canyon Road | None | +343
Crescent Creek | Approximately 45 feet upstream of 96th Street E | None | +14 | Unincorporated Areas of Pierce County, Town of Gig Harbor.
| Approximately 880 feet upstream of 138th Street E | None | +172
Fennel Creek | Approximately 660 feet upstream of confluence with Puyallup River | None | +101 | Unincorporated Areas of Pierce County, City of Bonney Lake.
| Approximately at Kelley Lake Road Bridge | None | +505
Lacamas Creek | Approximately 920 feet downstream of SR507 | +326 | +328 | Town of Roy, Unincorporated Areas of Pierce County.
| Approximately at 0.26 miles upstream of 310th Street S (Farm Road) | +473 | +474
Mashel River | Approximately at Private Road, 1600 feet upstream of confluence with Little Mashel River | +739 | +738 | Town of Eatonville, Unincorporated Areas of Pierce County.
| Approximately at 0.42 miles upstream of Eatonville Cutoff Road | +862 | +866
Morey Creek | Approximately 180 feet from confluence with Clover Creek | None | +293 | Unincorporated Areas of Pierce County.
| Approximately at 140 feet upstream of Spannaway Loop Road | None | +300
Muck Creek | Approximately 1070 feet upstream of 276th Street Bridge | +442 | +444 | Unincorporated Areas of Pierce County.
| Approximately at 240 feet upstream of 228th Street Ct E | None | +484
North Fork Clover Creek | Approximately at Golden Givens Road | +317 | +319 | Unincorporated Areas of Pierce County, City of Lakewood, City of Tacoma.
| Approximately 1500 feet upstream of 96th Street E | None | +391
North Fork Clover Creek Tributary #1 | Approximately 3220 feet upstream of confluence with North Fork Clover Creek | +323 | +322 | Unincorporated Areas of Pierce County.
| Approximately 0.4 miles upstream of 40th Avenue E | None | +457
North Fork Clover Creek Tributary #2 | Approximately 0.73 miles downstream of Railroad culvert | None | +333 | Unincorporated Areas of Pierce County.
| Approximately 40 feet upstream of Railroad culvert | None | +397
North Fork Clover Creek Tributary #4 | Approximately 0.5 miles downstream of 22nd Avenue Ct E | None | +363 | Unincorporated Areas of Pierce County.
| Approximately 0.2 miles upstream of 22nd Avenue Ct E | None | +402
North Fork Clover Creek Tributary #5 | Approximately 40 feet upstream of Aqueduct Drive E | None | +368 | Unincorporated Areas of Pierce County.
| Approximately 0.25 miles upstream of Aqueduct Drive E | None | +368
Puyallup River | Approximately 1100 feet downstream of East 11th Street | +13 | +10 | City of Fife, City of Puyallup, City of Sumner, Town of Orting, Unincorporated Areas of Pierce County.
| Approximately at 0.53 miles upstream of BN Railroad/Champion Bridge | +606 | +604
South Prairie Creek | Approximately 1 mile downstream of State Hwy 162 | +301 | +302 | Town of South Prairie, Unincorporated Areas of Pierce County.
| Approximately 0.37 miles upstream of SR 162 Bridge | +449 | +458
Spanaway Creek | Approximately 75 feet upstream of Spanaway Loop Road S | +287 | +285 | Unincorporated Areas of Pierce County.
| Approximately 500 feet upstream of 138th Avenue S | +296 | +297
Swan Creek | Approximately 110 feet upstream of 64th Street E | None | +323 | Unincorporated Areas of Pierce County, City of Tacoma.
| Approximately 330 feet upstream of 12th Street E | None | +419
Wapato Creek I | Approximately 1860 feet downstream of 12th Street E | None | +12 | City of Edgewood, City of Fife, City of Puyallup, City of Tacoma, Unincorporated Areas of Pierce County.
| Approximately at 130 feet upstream of 7th Street NW | None | +40
Wapato Creek II | Approximately at 1975 feet upstream of 114th Avenue Ct E | None | +40 | City of Edgewood, City of Puyallup, Unincorporated Areas of Pierce County.
| Approximately 1400 feet downstream of Todd Road NE (furthest downstream crossing) | +43 | +49
White River | Approximately 380 feet downstream of State Highway 410 | +47 | +51 | City of Sumner, City of Puyallup, Unincorporated Areas of Pierce County.
| Approximately at 0.4 miles upstream of 8th Street E | None | +74
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Bonney Lake
Maps are available for inspection at 19306 Bonney Lake Blvd, Bonney Lake, WA 98390.
City of Edgewood
Maps are available for inspection at 2221 Meridian East, Edgewood, WA 98371.
City of Fife
Maps are available for inspection at 5411 23rd St E, Fife, WA 98424.
City of Lakewood
Maps are available for inspection at 6000 Main St SW, Lakewood, WA 98499.
City of Puyallup
Maps are available for inspection at 330 3rd St SW, Puyallup, WA 98371.
City of Sumner
Maps are available for inspection at 1104 Maple St, Sumner, WA 98390.
City of Tacoma
Maps are available for inspection at 747 Market St, Ste. 1200, Tacoma, WA 98402.
Town of Eatonville
Maps are available for inspection at 201 Center St W, Eatonville, WA 98328.
Town of Gig Harbor
Maps are available for inspection at 3510 Grandview St, Gig Harbor, WA 98335.
Town of Orting
Maps are available for inspection at 110 Train St SE, Orting, WA 98360.
Town of Roy
Maps are available for inspection at 216 McNaught St S, Roy, WA 98580.
Town of South Prairie
Maps are available for inspection at 121 NW Washington St., South Prairie, WA 98385.
Unincorporated Areas of Pierce County
Maps are available for inspection at 930 Tacoma Avenue S., Rm 737, Tacoma, WA 98402.

(Catalog of Federal Domestic Assistance No. 97.022, “Flood Insurance.”)

Dated: November 28, 2007.
David I. Maurstad,
Federal Insurance Administrator of the National Flood Insurance Program, Department of Homeland Security, Federal Emergency Management Agency.

[FR Doc. E7-23702 Filed 12-5-07; 8:45 am]

BILLING CODE 9110-12-P